DEPARTMENT OF THE INTERIOR

Bureau of Land Management

[LLIDB00100 L17110000.PH0000 LXSS024D0000 45001222254]

Notice of Public Meeting, Boise District Resource Advisory Council, Idaho

AGENCY: Bureau of Land Management, Interior.

ACTION: Notice of public meeting.

SUMMARY: In accordance with the Federal Land Policy and Management Act of 1976, the Federal Advisory Committee Act of 1972, the U.S. Department of the Interior, Bureau of Land Management (BLM) Boise District Resource Advisory Council (RAC) will meet as indicated below.

DATES: The Boise District RAC will meet September 13, 2018. The meeting will begin at 8:00 a.m. and end at 4:00 p.m. The public comment period will take place from 8:00 a.m. to 8:30 a.m.

ADDRESSES: The Boise District RAC will meet at the BLM Boise District Office, 3948 Development Avenue, Boise, Idaho 83705.

FOR FURTHER INFORMATION CONTACT: Michael Williamson, BLM Boise District, Idaho, 3948 Development Avenue, Boise, Idaho 83705, 208-384-3393, email mwilliamson@blm.gov. Persons who use a telecommunications device for the deaf (TDD) may contact Mr. Williamson by calling the Federal Relay Service (FRS) at (800) 877-8339. The FRS is available 24 hours a day, 7 days a week, to leave a message or question with Mr. Williamson. You will receive a reply during normal business hours.

SUPPLEMENTARY INFORMATION: The 15-member RAC advises the Secretary of the Interior, through the BLM, on a variety of planning and management issues associated with public land management in Idaho. During the September 13, 2018 meeting, the Boise District RAC will have a briefing on the Boise District's wild horse program, Tri-State fuel breaks project, travel management planning, and other Field Office updates. Additional topics may be added and will be included in local media announcements.

RAC meetings are open to the public. The public may present written comments to the Council at the address provided above. Each formal Council meeting will also have time allocated for hearing public comments. Depending on the number of persons wishing to comment and time available, the time for individual oral comments may be limited.

Before including your address, phone number, email address, or other personal identifying information in your comments, please be aware that your entire comment, including your personal identifying information, may be made publicly available at any time. While you can ask us in your comment to withhold your personal identifying information from public review, we cannot guarantee that we will be able to do so. Individuals who plan to attend and need special assistance, such as sign language interpretation, tour transportation or other reasonable accommodations, should contact the BLM as provided above.

Authority: 43 CFR 1784.4-2

Lara Douglas,
District Manager.

[FR Doc. 2018-16589 Filed 8-2-18; 8:45 am]

BILLING CODE 4310-AK-P